RAILROAD RETIREMENT BOARD

Sunshine Act Meetings

FEDERAL REGISTER CITATION OF PREVIOUS ANNOUNCEMENT: FR Doc. 2020-00056 Filed 1-2-20.

PREVIOUSLY ANNOUNCED TIME AND DATE OF THE MEETING: 10:00 a.m., January 15, 2020.

CHANGES IN THE MEETING: By unanimous vote of the Board, addition of a closed meeting item: SCOTUS decision.

CONTACT PERSON FOR MORE INFORMATION: Stephanie Hillyard, Secretary to the Board, Phone No. 312-751-4920.

Authority: 5 U.S.C. 552b.

Dated: January 10, 2020.
Stephanie Hillyard,
Secretary to the Board.

[FR Doc. 2020-00583 Filed 1-13-20; 11:15 am]

BILLING CODE 7905-01-P